ENVIRONMENTAL PROTECTION AGENCY

40 CFR Part 52

[PA 4091b; FRL-6569-1]

Approval and Promulgation of Air Quality Implementation Plans; Pennsylvania; Approval of VOC and NOx RACT Determinations for Individual Sources

AGENCY: Environmental Protection Agency (EPA).

ACTION: Proposed rule.

SUMMARY: EPA is proposing to approve revisions to the Commonwealth of Pennsylvania's State Implementation Plan (SIP). The revisions impose reasonably available control technology (RACT) on twenty-six major sources of volatile organic compounds (VOC) and nitrogen oxides (NOx) located in Pennsylvania. EPA is proposing these revisions to establish RACT requirements in accordance with the Clean Air Act. In the “Rules and Regulations” section of this Federal Register, EPA is approving the State's SIP submittal as a direct final rule without prior proposal because the Agency views this as a noncontroversial submittal and anticipates no adverse comments. A more detailed description of the state submittal and EPA's evaluation are included in the Technical Support Documents (TSD) prepared in support of this rulemaking action. A copy of the TSD's are available, upon request, from the EPA Regional Office listed in the ADDRESSES section of this document. If EPA receives no adverse comments, EPA will not take further action on this proposed rule. If EPA receives adverse comments, EPA will withdraw the direct final rule and it will not take effect. EPA will address all public comments in a subsequent final rule based on this proposed rule. EPA will not institute a second comment period on this action. Any parties interested in commenting on this action should do so at this time.

DATES: Written comments must be received by May 18, 2000.

ADDRESSES: Written comments on this action should be addressed to Kathleen Henry, Chief, Permits and Technical Assessment Branch, Air Protection Division, Mailcode 3AP11, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Pennsylvania Department of Environmental Protection, Bureau of Air Quality Control, P.O. Box 8468, 400 Market Street, Harrisburg, Pennsylvania 17105.

FOR FURTHER INFORMATION CONTACT: Kelly L. Bunker at (215) 814-2177, for information on sources #1-18 (or via e-mail at bunker.kelly@epa.gov) or Melik Spain at (215) 814-2299 for information on sources #19-26 (or via e-mail at spain.melik@epa.gov). While information may be requested via e-mail, any comments must be submitted in writing to the above Region III address.

SUPPLEMENTARY INFORMATION: For further information concerning this action to propose approval of VOC and NOx RACT determinations for twenty-six individual sources in Pennsylvania as a revision to the Commonwealth's SIP, please see the information provided in the direct final action, of the same Title, that is located in the “Rules and Regulations” section of this Federal Register publication.

Dated: March 19, 2000.
Bradley M. Campbell,
Regional Administrator, Region III.

[FR Doc. 00-9383 Filed 4-17-00; 8:45 am]

BILLING CODE 6560-50-P